DEPARTMENT OF THE INTERIOR

Fish and Wildlife Service

[FWS-R2-ES-2019-N042; FXES11140200000-190-FF02ENEH00]

Incidental Take Permit Application To Participate in American Burying Beetle Amended Oil and Gas Industry Conservation Plan in Oklahoma

AGENCY: Fish and Wildlife Service, Interior.

ACTION: Notice of availability; request for public comments.

SUMMARY: Under the Endangered Species Act, we, the U.S. Fish and Wildlife Service, invite the public to comment on federally listed American burying beetle incidental take permit (ITP) applications. The applicant anticipates American burying beetle take as a result of impacts to Oklahoma habitat the species uses for breeding, feeding, and sheltering. The take would be incidental to the applicant's activities associated with oil and gas well field and pipeline infrastructure (gathering, transmission, and distribution), including geophysical exploration (seismic), construction, maintenance, operation, repair, decommissioning, and reclamation. If approved, the permit would be issued under the approved American Burying Beetle Amended Oil and Gas Industry Conservation Plan (ICP) Endangered Species Act Section 10(a)(1)(B) Permit Issuance in Oklahoma.

DATES: To ensure consideration, we must receive written comments on or before May 20, 2019.

ADDRESSES: You may obtain copies of all documents and submit comments on the applicant's ITP application by one of the following methods. Please refer to the proposed permit number when requesting documents or submitting comments.

• Email: fw2_hcp_permits@fws.gov.

• U.S. Mail: U.S. Fish and Wildlife Service, Endangered Species—HCP Permits, P.O. Box 1306, Room 6093, Albuquerque, NM 87103.

FOR FURTHER INFORMATION CONTACT: Marty Tuegel, Branch Chief, by U.S. mail at U.S. Fish and Wildlife Service, Environmental Review Division, P.O. Box 1306, Room 6078, Albuquerque, NM 87103; by telephone at 505-248-6651; or via the Federal Relay Service at 800-877-8339.

SUPPLEMENTARY INFORMATION:

Introduction

Under the Endangered Species Act, as amended (ESA; 16 U.S.C. 1531 et seq.), we, the U.S. Fish and Wildlife Service, invite the public to comment on an incidental take permit (ITP) application to take the federally listed American burying beetle (Nicrophorus americanus) during oil and gas well field infrastructure geophysical exploration (seismic) and construction, maintenance, operation, repair, and decommissioning, as well as oil and gas gathering, transmission, and distribution pipeline infrastructure construction, maintenance, operation, repair, decommissioning, and reclamation in Oklahoma.

If approved, the permit would be issued to the applicant under the American Burying Beetle Amended Oil and Gas Industry Conservation Plan (ICP) Endangered Species Act Section 10(a)(1)(B) Permit Issuance in Oklahoma. The original ICP was approved on May 21, 2014, and the “no significant impact” finding notice was published in the Federal Register on July 25, 2014 (79 FR 43504). The draft amended ICP was made available for comment on March 8, 2016 (81 FR 12113), and approved on April 13, 2016. The original ICP of 2014 and the associated environmental assessment/finding of no significant impact and the amended ICP of 2016 are available on our website at http://www.fws.gov/southwest/es/oklahoma/ABBICP. However, we are no longer taking comments on these finalized, approved documents.

The second draft amendment to the ICP was made available for public comment via publication in the Federal Register on March 14, 2019 (84 FR 9371), with a comment period end of April 15, 2019.

Application Available for Review and Comment

We invite local, state, Tribal, and Federal agencies, and the public to comment on the following application under the ICP for incidentally taking the federally listed American burying beetle. Please refer to the proposed permit number (TEXXXXXX-X) when requesting application documents and when submitting comments. Documents and other information the applicant submitted are available for review, subject to Privacy Act (5 U.S.C. 552a) and Freedom of Information Act (5 U.S.C. 552) requirements.

Permit No. TE33765D

Applicant: Valero Partners Wynnewood, LLC, San Antonio, TX.

Applicant requests a permit for oil and gas upstream and midstream production, including oil and gas well field infrastructure geophysical exploration (seismic) and construction, maintenance, operation, repair, and decommissioning, as well as oil and gas gathering, transmission, and distribution pipeline infrastructure construction, maintenance, operation, repair, decommissioning, and reclamation in Oklahoma.

Permit No. TE33772D

Applicant: Silver Creek Oil & Gas, LLC, Irving, TX.

Applicant requests a permit for oil and gas upstream and midstream production, including oil and gas well field infrastructure geophysical exploration (seismic) and construction, maintenance, operation, repair, and decommissioning, as well as oil and gas gathering, transmission, and distribution pipeline infrastructure construction, maintenance, operation, repair, decommissioning, and reclamation in Oklahoma.

Public Availability of Comments

Written comments we receive become part of the public record associated with this action. Before including your address, phone number, email address, or other personal identifying information in your comment, you should be aware your entire comment—including your personal identifying information—may be made publicly available at any time. While you can request in your comment that we withhold your personal identifying information from public review, we cannot guarantee that we will be able to do so. All submissions from organizations or businesses, and from individuals identifying themselves as representatives or officials of organizations or businesses, will be made available for public disclosure in their entirety.

Authority

We provide this notice under section 10(c) of the ESA (16 U.S.C. 1531 et seq.), its implementing regulations (50 CFR 17.22), and the National Environmental Policy Act (42 U.S.C. 4321 et seq.) and its implementing regulations (40 CFR 1506.6).

Amy Lueders,
Regional Director, Southwest Region, U.S. Fish and Wildlife Service.

[FR Doc. 2019-07878 Filed 4-18-19; 8:45 am]

BILLING CODE 4333-15-P